DEPARTMENT OF ENERGY

Federal Energy Regulatory Commission

[Docket Nos. CP05-119-001 and CP05-121-001]

Cameron Interstate Pipeline, LLC; Notice of Application To Amend

October 14, 2005.

Take notice that on October 7, 2005, Cameron Interstate Pipeline, LLC (Cameron Interstate Pipeline), 101 Ash Street, San Diego, CA 92101, filed in the above referenced docket(s), an abbreviated application to amend its certificates of public convenience and necessity issued pursuant to section 7(c) of the Natural Gas Act, and the Commission's regulations, 18 CFR Parts 157 and 284. In Docket No. CP05-119-001 Cameron Interstate Pipeline is seeking to amend its certificate to construct and operate its pipeline, and in Docket No. CP05-121-001 it is seeking to amend its blanket certificate to transport natural gas. The application is on file with the Commission and open for public inspection.

This filing is also accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Any questions regarding Cameron Interstate Pipeline's application should be directed to: Carlos F. Peña, Senior Regulatory Counsel, HQ13 101 Ash Street, San Diego, CA 92101, phone (619) 696-4320.

Cameron Interstate Pipeline requests authority: (i) Approving its requested pipeline design change allowing for the use of thicker walled pipe, (ii) approving the replacement pro forma Tariff attached at Exhibit P and canceling the tariff originally submitted, (iii) approving Cameron Interstate Pipeline's updated rates and rate schedules; and

(iv) clarifying that the pipeline facilities are certificated to transport natural gas at levels up to 1.5 Bcf per day.

Cameron Interstate Pipeline requests that the Commission approve its revised estimated cost of its facilities from $73.4 million, as originally approved, to $105.3 million; its previously approved annual cost-of-service from $12,729,701 to $28,600,026; and, its previously approved firm transportation reservation charge from $.7087 per Dth to $.5278 per Dth. Cameron Interstate Pipeline also asks that the Commission approve a revised capital structure and rate of return for the project. Finally, Cameron Interstate Pipeline has filed for approval an updated and revised pro forma FERC Gas Tariff which reflects only natural gas transportation services it will now be offering under its certificates.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: November 4, 2005.

Magalie R. Salas,
Secretary.

[FR Doc. E5-5806 Filed 10-20-05; 8:45 am]

BILLING CODE 6717-01-P